NATIONAL TRANSPORTATION SAFETY BOARD

Sunshine Act Meeting

TIME AND DATE: 9:30 a.m., Tuesday, July 15, 2014.

PLACE: NTSB Conference Center, 429 L'Enfant Plaza SW., Washington, DC 20594.

STATUS: The one item is open to the public.

MATTERS TO BE CONSIDERED:

8509A—Highway Accident Report—Collapse of the Interstate 5 Skagit River Bridge, Mount Vernon, Washington, May 23, 2013

NEWS MEDIA CONTACT: Telephone: (202) 314-6100.

The press and public may enter the NTSB Conference Center one hour prior to the meeting for set up and seating.

Individuals requesting specific accommodations should contact Rochelle Hall at (202) 314-6305 or by email at Rochelle.Hall@ntsb.gov by Wednesday, July 9, 2014.

The public may view the meeting via a live or archived Web cast by accessing a link under “News & Events” on the NTSB home page at www.ntsb.gov.

Schedule updates, including weather-related cancellations, are also available at www.ntsb.gov.

FOR MORE INFORMATION CONTACT: Candi Bing, (202) 314-6403 or by email at bingc@ntsb.gov.

FOR MEDIA INFORMATION CONTACT: Peter Knudson, (202) 314-6100 or by email at peter.knudson@ntsb.gov.

Dated: June 27, 2014.
Candi R. Bing,
Federal Register Liaison Officer.

[FR Doc. 2014-15529 Filed 6-27-14; 4:15 pm]

BILLING CODE 7533-01-P